ENVIRONMENTAL PROTECTION AGENCY

[EPA-HQ-OW-2003-0078; FRL-8581-2]

Agency Information Collection Activity; Proposed Collection; Comment Request; National Wastewater Operator Training and Technical Assistance Program (Renewal), EPA ICR Number 1977.03, OMB Control Number 2040-0238

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before July 18, 2008.

ADDRESSES: Submit your comments, referencing Docket ID No. EPA-HQ-OW-2003-0078, to (1) EPA online using http://www.regulations.gov (our preferred method), by e-mail to ow-docket@epa.gov, or by mail to: Water Docket, Environmental Protection Agency, Mail Code: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Gajindar Singh, Municipal Support Division, Office of Wastewater Management, OWM Mail Code: 4204M, Environmental Protection Agency, 1200 Pennsylvania Ave., NW., Washington, DC 20460; telephone number: (202) 564-0634; fax number: (202) 501-2396; e-mail address: singh.gajindar@epa.gov.

SUPPLEMENTARY INFORMATION: EPA has submitted the following ICR to OMB for review and approval according to the procedures prescribed in 5 CFR 1320.12. On January 23, 2008, (73 FR 3956), EPA sought comments on this ICR pursuant to 5 CFR 1320.8(d). EPA received no comments during the comment period. Any comments on this ICR should be submitted to EPA and OMB within 30 days of this notice.

EPA has established a public docket for this ICR under Docket ID No. EPA-HQ-OW-2003-0078, which is available for online viewing at http://www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: National Wastewater Operator Training and Technical Assistance Program (Renewal).

ICR Numbers: EPA ICR No. 1977.03, OMB Control No. 2040-0238.

ICR Status: This ICR expires on June 30, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Wastewater Operator Training Program, section 104(g)(1) of the Clean Water Act, provides on-site technical assistance to municipal wastewater treatment plants. Information will be collected from the network of forty-six states or the 104(g)(1) training centers set up through out the United States. The information will be collected to identify the facilities assisted, the different types of assistance the program provides and the environmental outcomes and benefits of the assistance provided by the program. The information will be collected and submitted on either an annual or semi-annual basis. A Microsoft Access database and an Excel spreadsheet have been developed for this purpose. This ICR will be used by EPA for the technical and financial management of the 104(g)(1) Program. The 104(g)(1) Program training centers participate in the information collection in compliance with the grant conditions. All information in the data system will be made public upon request.

Burden Statement: The annual public reporting and recordkeeping burden for this collection of information is estimated to average 2.333 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: States and training centers.

Estimated Number of Respondents: 46.

Frequency of Response: Three times a year.

Estimated Total Annual Hour Burden: 322 hours.

Estimated Total Annual Cost: $14,361, which is entirely for labor. There are no annualized capital or O&M costs.

Changes in the Estimates: There is no change in the total estimated respondent burden hours compared with that identified in the ICR currently approved by OMB. EPA has not modified the requirements that were included in the previous ICR.

Dated: June 4, 2008.
Sara Hisel-McCoy,
Director, Collection Strategies Division.

[FR Doc. E8-13765 Filed 6-17-08; 8:45 am]

BILLING CODE 6560-50-P